DEPARTMENT OF THE INTERIOR

National Park Service

[NPS-WASO-NAGPRA-NPS0034236; PPWOCRADN0-PCU00RP14.R50000]

Notice of Intent To Repatriate Cultural Items: University of California, Berkeley, Berkeley, CA

AGENCY: National Park Service, Interior.

ACTION: Notice.

SUMMARY: The University of California, Berkeley, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the University of California, Berkeley. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the University of California, Berkeley at the address in this notice by August 22, 2022.

FOR FURTHER INFORMATION CONTACT: Thomas Torma, University of California, Berkeley; 50 University Hall, 2199 Addison Street, Berkeley, CA 94720, telephone (510) 672-5388, email t.torma@berkeley.edu.

SUPPLEMENTARY INFORMATION: Notice is here given in accordance with the Native American Graves Protection and Repatriation Act (NAGPRA), 25 U.S.C. 3005, of the intent to repatriate cultural items under the control of the University of California, Berkeley, Berkeley, CA, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Beginning in 1872, 34 cultural items were removed from multiple identified sites in Marin County, CA, including CA-Mrn-100, CA-Mrn-102, CA-Mrn-104, CA-Mrn-11, CA-Mrn-111, CA-Mrn-114, CA-Mrn-115, CA-Mrn-117, CA-Mrn-138, CA-Mrn-140, CA-Mrn-141, CA-Mrn-142, CA-Mrn-144, CA-Mrn-160, CA-Mrn-162, CA-Mrn-170, CA-Mrn-173, CA-Mrn-202, CA-Mrn-207, CA-Mrn-210, CA-Mrn-226, CA-Mrn-230, CA-Mrn-235, CA-Mrn-237, CA-Mrn-238, CA-Mrn-239, CA-Mrn-254, CA-Mrn-260, CA-Mrn-269, CA-Mrn-273, CA-Mrn-274, CA-Mrn-277, CA-Mrn-278, CA-Mrn-283, CA-Mrn-287, CA-Mrn-289, CA-Mrn-290, CA-Mrn-303, CA-Mrn-340, CA-Mrn-344, CA-Mrn-346, CA-Mrn-354, CA-Mrn-355, CA-Mrn-365, CA-Mrn-366, CA-Mrn-368, CA-Mrn-397, CA-Mrn-59, CA-Mrn-8, CA-Mrn-91, as well as 24 unidentified sites in Marin County. These collections comprise 71 separate accessions.

The 34 objects one lot of awls and awl fragments; one lot of baked clay and ceramics; one lot of basketry fragments; one lot of beads; one lot of bottles and bottle fragments; one lot of bow; one lot of charmstones and charmstone fragments; one lot of crystal; one lot of currency; one lot of faunal remains; one lot of figurines and figurine fragments; one lot of flake, beads, and sinker; one lot of glass fragments; one lot of metal tools, objects, and fragments; one lot of mixed faunal bones and plant matter; one lot of modern refuse; one lot of mortars and pestles; one lot of non-native; one lot of ornaments; one lot of pendant; one lot of pendants; one lot of pipes and pipe fragments; one lot of plant material; one lot of plant material and charcoal; one lot of plant matter; one lot of quartz; one lot of shells; one lot of sinkers; one lot of soil sample; one lot of stone; one lot of textiles and clothing; one lot of wood fragments (some charred); one lot of worked bone; and one lot of worked stone, stone tools and objects.

Based on geographical, kinship, archeological, linguistic, folkloric, oral traditional, and historical information since time immemorial the whole of Marin County has been the ancestral territory of the Coast Miwok, among whom are the Federated Indians of Graton Rancheria, California. Tribal consultation has established that the items listed in this notice are culturally affiliated with the Federated Indians of Graton Rancheria, California and are objects of cultural patrimony.

Determinations Made by the University of California, Berkeley

Officials of the University of California, Berkeley have determined that:

• Pursuant to 25 U.S.C. 3001(3)(D), the 34 cultural items described above have ongoing historical, traditional, or cultural importance central to the Native American group or culture itself, rather than property owned by an individual.

• Pursuant to 25 U.S.C. 3001(2), there is a relationship of shared group identity that can be reasonably traced between the objects of cultural patrimony and the Federated Indians of Graton Rancheria, California.

Additional Requestors and Disposition

Lineal descendants or representatives of any Indian Tribe or Native Hawaiian organization not identified in this notice that wish to claim these cultural items should submit a written request with information in support of the claim to Thomas Torma, University of California, Berkeley; 50 University Hall, 2199 Addison Street, Berkeley, CA 94720, telephone (510) 672-5388, email t.torma@berkeley.edu, by August 22, 2022. After that date, if no additional claimants have come forward, transfer of control of the objects of cultural patrimony to the Federated Indians of Graton Rancheria, California may proceed.

The University of California, Berkeley is responsible for notifying the Federated Indians of Graton Rancheria, California, and the Guidiville Rancheria of California that this notice has been published.

Dated: July 13, 2022.
Melanie O'Brien,
Manager, National NAGPRA Program.

[FR Doc. 2022-15551 Filed 7-20-22; 8:45 am]

BILLING CODE 4312-52-P